DEPARTMENT OF DEFENSE

Department of the Army

Intent To Grant an Exclusive License for U.S. Army Owned Inventions to Polymer Processing Institute

AGENCY: Department of the Army, DoD.

ACTION: Notice.

SUMMARY: The Department of the Army announces that, unless there is an objection, after 15 days it contemplates granting an exclusive license to Polymer Processing Institute, a not-for-profit corporation having a place of business in the New Jersey Institute of Technology Campus in Newark, New Jersey, to produce the following inventions:

• ARDEC Reference 2006-043, and U.S. patent application 12/483420—“Foamed Celluloid Mortar Propellant Increment Containers”—Inventors Ming-Wan Young, Costas G. Gogos; Niloufar Faridi; Linjie Zhu; Peter Bonnett; Howard Shimm; Elbert Caravaca; Joseph Palk.

• ARDEC Reference 2006-043 continuation (disclosure)—“Foamed Celluloid and Applications Therefor”.

• ARDEC Reference 2009-014 (disclosure)—“Prepare Foamed Energetic Material at a High Production Rate”—Inventors Linjie Zhu; Fei Shen; Ming-wan Young; Costas G. Gogos; Chong Peng; Mohamed Elalem; Joseph Palk; Howard (Howie) Shimm, Dale Conti; Elbert Caravaca; Peter Bonnett.

• ARDEC Reference 2009-015 (disclosure)—“Prepare Foamed Energetic Material by Expandable Bead Methodology”—Inventors Niloufar Faridi; Linjie Zhu; Ming-wan Young; Costas G. Gogos; Kuanyin Lin; Mohamed Elalem; Joseph Palk; Elbert Caravaca; Dale Conti.

Any license granted shall comply with 35 U.S.C. 209 and 37 CFR part 404.

DATES: File written objections by December 28, 2010.

FOR FURTHER INFORMATION CONTACT: Mr. Timothy S. Ryan, Technology Transfer Program Manager, RDAR-EIB, U.S. Army ARDEC, Picatinny Arsenal, NJ 07806-5000, e-mail: timothy.s.ryan@us.army.mil; (973) 724-7953.

SUPPLEMENTARY INFORMATION: Written objections must be filed within 15 days from publication date of this notice in the Federal Reg ister. Any license granted shall comply with 35 U.S.C. 209 and 37 CFR part 404.

Brenda S. Bowen,
Army Federal Register Liaison Officer.

[FR Doc. 2010-31174 Filed 12-10-10; 8:45 am]

BILLING CODE 3710-08-P